MORRIS K. UDALL AND STEWART L. UDALL FOUNDATION

Sunshine Act Meetings

TIME AND DATE: 11:00 a.m. to 2:00 p.m., Thursday, February 9, 2017.

PLACE: The offices of the Morris K. Udall and Stewart L. Udall Foundation, 130 South Scott Avenue, Tucson, AZ 85701.

STATUS: This special meeting of the Board of Trustees will be open to the public.

MATTERS TO BE CONSIDERED: (1) Call to Order & Chair's Remarks and (2) a 2018-2022 Strategic Planning Session.

CONTACT PERSON FOR MORE INFORMATION: Philip J. Lemanski, Executive Director, 130 South Scott Avenue, Tucson, AZ 85701, (520) 901-8500.

Dated: January 26, 2017.
Elizabeth E. Monroe,
Executive Assistant, Morris K. Udall and Stewart L. Udall Foundation, and Federal Register Liaison Officer.

[FR Doc. 2017-02030 Filed 1-26-17; 4:15 pm]

BILLING CODE 6820-FN-P